DEPARTMENT OF COMMERCE

National Oceanic and Atmospheric Administration

RIN 0648-XD483

North Pacific Fishery Management Council; Public Meetings

AGENCY: National Marine Fisheries Service (NMFS), National Oceanic and Atmospheric Administration (NOAA), Commerce.

ACTION: Notice of public meetings.

SUMMARY: The North Pacific Fishery Management Council's Gulf of Alaska (GOA) and Bering Sea/Aleutian Islands (BS/AI) groundfish plan teams will meet in Seattle, WA.

DATES: The meetings will be held September 23-26, 2014. The meetings will begin at 9 a.m. on Tuesday, September 23, and continue through Friday, September 26, 2014.

ADDRESSES: The meetings will be held at the Alaska Fisheries Science Center, 7600 Sand Point Way NE., Building 4, National Marine Mammal Lab Room 2039 (GOA Plan Team) and Traynor Room 2076 (BS/AI Plan Team, Joint meeting), Seattle, WA.

Council address: North Pacific Fishery Management Council, 605 W. 4th Ave., Suite 306, Anchorage, AK 99501-2252.

FOR FURTHER INFORMATION CONTACT: David Witherell or Diana Stram, NPFMC; telephone: (907) 271-2809.

SUPPLEMENTARY INFORMATION:

Agenda

Principal business is to recommend proposed groundfish catch specifications for 2015/16. The teams also will review status reports on various management actions, review the draft Ecosystems Considerations Chapter, review proposed changes to Bering Sea/Aleutian Island and Gulf of Alaska groundfish stock assessment models, as well as other reports.

The Agenda is subject to change, and the latest version is posted at http://www.npfmc.org/.

Special Accommodations

These meetings are physically accessible to people with disabilities. Requests for sign language interpretation or other auxiliary aids should be directed to Gail Bendixen, (907) 271-2809, at least 5 working days prior to the meeting date.

Dated: September 2, 2014.
Tracey L. Thompson,
Acting Deputy Director, Office of Sustainable Fisheries, National Marine Fisheries Service.

[FR Doc. 2014-21176 Filed 9-4-14; 8:45 am]

BILLING CODE 3510-22-P